FEDERAL COMMUNICATIONS COMMISSION

47 CFR Part 97

[WT Docket No. 98-143, RM-9148, RM-9150, RM-9196; FCC 99-412]

Amateur Service Rules

AGENCY: Federal Communications Commission.

ACTION: Final rule.

SUMMARY: This document revises the Amateur Radio Service rules to simplify the Amateur Radio Service operator license structure; streamlines the number of examination elements; and reduces the emphasis on telegraphy that underlies the current license structure to the greatest extent possible, consistent with the international radio regulations. This action will allow current Amateur Radio Service licensees to contribute more to the advancement of the radio art; reduce the administrative costs that the Commission incurs in regulating this service and streamline our licensing processes; eliminate unnecessary requirements that may discourage or limit individuals from becoming trained operators, technicians, and electronic experts; and promote efficient use of spectrum allocated to the Amateur Radio Service.

DATES: Effective April 15, 2000.

FOR FURTHER INFORMATION CONTACT: William T. Cross, Public Safety and Private Wireless Division, Wireless Telecommunications Bureau, (202) 418-0680, TTY (202) 418-7233.

SUPPLEMENTARY INFORMATION: This is a summary of the Commission's Report and Order, WT Docket No. 98-143, FCC 99-412, adopted December 22, 1999, and released December 30, 1999. The complete text of this Report and Order is available for inspection and copying during normal business hours in the FCC's Reference Information Center, 445 12th Street SW, Room CY-A257, Washington, DC. The complete text of this Report and Order may also be obtained from the Commission's copy contractor, International Transcription Services, Inc., 1231 20th St., NW, Washington, DC 20036, telephone (202) 857-3800. Alternative formats (computer diskette, large print, audio cassette, and Braille) are available to persons with disabilities by contacting Martha Contee at (202) 418-0620 (voice) or (202) 418-2555 (TTY), or at mcontee@fcc.gov. The complete (but unofficial) text is also available on the Commission's Internet site at >http://www.fcc.gov/Bureaus/Wireless/Orders/1999< under the file name “fcc99412.txt” in ASCII text and “fcc99412.wp” in WordPerfect format.

Summary of Report and Order

1. In the Notice of Proposed Rule Making (Notice) (63 FR 49059, September 14, 1998) in WT Docket No. 98-143, the Commission initiated the instant proceeding to examine the Amateur Radio Service rules in an effort to streamline its licensing processes and eliminate unnecessary and duplicative rules.

2. By this action, the Commission simplifies the Amateur Radio Service operator license structure; streamlines the number of examination elements; and reduces the emphasis on telegraphy that underlies the current license structure to the greatest extent possible, consistent with the international Radio Regulations. Specifically, the Commission amends the rules to reduce the number of operator license classes from six to three, reduce the number of telegraphy examination elements from three to one, reduce the number of written examination elements from five to three, authorize Advanced Class amateur radio operators to prepare and administer examinations for the General Class amateur radio operator license, and eliminate Radio Amateur Civil Emergency Service (RACES) station licenses.

3. The Regulatory Flexibility Act (RFA) requires that an agency prepare a regulatory flexibility analysis for notice-and-comment rulemaking proceedings, unless the agency certifies that “the rule will not, if promulgated, have a significant economic impact on a substantial number of small entities.” 5 U.S.C. 605(b). In the Notice, the Commission certified that the proposed rule amendments, if promulgated, would not have a significant economic impact on a substantial number of small business entities, as defined in Section 601(3) of the RFA because the rule amendments do not apply to small business entities. Rather, the rules apply to individuals who are interested in radio technique solely with a personal aim and without pecuniary interest. No comments were received concerning this certification. The Commission now affirms this certification with respect to the rules adopted in this Report and Order. Accordingly, the Commission certifies, pursuant to Section 605(b) of the RFA, that the rules adopted herein will not have a significant economic impact on a substantial number of small entities, as defined in the RFA.

List of Subjects in 47 CFR Part 97

Amateur radio, Examinations, Radio, Volunteer examiners.

Federal Communications Commission.
Magalie Roman Salas,
Secretary.

Rule Changes

For the reasons discussed in the preamble, the Federal Communications Commission amends 47 CFR part 97 as follows:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-609, unless otherwise noted.

2. Section 97.9 is amended by revising paragraph (b) to read as follows:

§ 97.9 Operator license.

(a) * * *

(b) The person named in an operator license grant of Novice, Technician, Technician Plus, General or Advanced Class, who has properly submitted to the administering VEs a FCC Form 605 document requesting examination for an operator license grant of a higher class, and who holds a CSCE indicating that the person has completed the necessary examinations within the previous 365 days, is authorized to exercise the rights and privileges of the higher operator class until final disposition of the application or until 365 days following the passing of the examination, whichever comes first.

3. Section 97.13 is amended by revising paragraphs (b) and (c)(2) to read as follows:

§ 97.13 Restrictions on station location.

* * * * *

(b) A station within 1600 m (1 mile) of an FCC monitoring facility must protect that facility from harmful interference. Failure to do so could result in imposition of operating restrictions upon the amateur station by a District Director pursuant to § 97.121 of this part. Geographical coordinates of the facilities that require protection are listed in § 0.121(c) of this chapter.

(c) * * *

(2) If the routine environmental evaluation indicates that the RF electromagnetic fields could exceed the limits contained in § 1.1310 of this chapter in accessible areas, the licensee must take action to prevent human exposure to such RF electromagnetic fields. Further information on evaluating compliance with these limits can be found in the FCC's OET Bulletin Number 65, “Evaluating Compliance with FCC Guidelines for Human Exposure to Radiofrequency Electromagnetic Fields.”

4. Section 97.17 is amended by revising paragraph (a) to read as follows:

§ 97.17 Application for new license grant.

(a) Any qualified person is eligible to apply for a new operator/primary station, club station or military recreation station license grant. No new license grant will be issued for a Novice, Technician Plus, or Advanced Class operator/primary station or a RACES station.

* * * * *

5. Section 97.21 is amended by revising paragraph (a)(3) introductory text and (a)(3)(iii) to read as follows:

§ 97.21 Application for a modified or renewed license.

(a) * * *

(3) May apply to the FCC for renewal of the license grant for another term in accordance with § 1.913 of this chapter. Application for renewal of a Technician Plus Class operator/primary station license will be processed as an application for renewal of a Technician Class operator/primary station license.

* * * * *

(iii) For a club station or military recreation station license grant showing a call sign obtained through the sequential call sign system, and for a club or military recreation station license grant showing a call sign obtained through the vanity call sign system but whose grantee does not want to have the vanity call sign reassigned to the station, the application must be presented in document form to a Club Station Call Sign Administrator who must submit the information thereon to the FCC in an electronic batch file. The Club Station Call Sign Administrator must retain the collected information for at least 15 months and make it available to the FCC upon request. RACES station license grants will not be renewed.

* * * * *

6. Section 97.301 is amended by removing paragraph (f) and revising paragraph (e) to read as follows. The frequency tables in 97.301 (a), (b), (c), and (d) remain unchanged.

§ 97.301 Authorized frequency bands.

* * * * *

(e) For a station having a control operator who has been granted an operator license of Novice Class or Technician Class and who has received credit for proficiency in telegraphy in accordance with the international requirements.

Wavelength band | ITU region 1 | ITU region 2 | ITU region 3 | Sharing requirements (see § 97.303 paragraph)
HF | MHz | MHz | MHz |
80 m | 3.675-3.725 | 3.675-3.725 | 3.675-3.725 | (a)
40 m | 7.050-7.075 | 7.10-7.15 | 7.050-7.075 | (a)
15 m | 21.10-21.20 | 21.10-21.20 | 21.10-21.20 |
10 m | 28.10-28.50 | 28.10-28.50 | 28.10-28.50 |
VHF | MHz | MHz | MHz |
1.25 m |  | 222-225 |  | (a)
UHF | MHz | MHz | MHz |
23 cm | 1270-1295 | 1270-1295 | 1270-1295 | (h)(i)

7. Section 97.307 is amended by revising paragraph (f) (10) to read as follows:

§ 97.307 Emission standards.

* * * * *

(f) * * *

(10) A station having a control operator holding a Novice Class operator license or a Technician Class operator license and who has received credit for proficiency in telegraphy in accordance with the international requirements may only transmit a CW emission using the international Morse code or phone emissions J3E and R3E.

* * * * *

8. Section 97.313 is amended by revising paragraphs (c)(2) and (f) to read as follows:

§ 97.313 Transmitter power standards.

* * * * *

(c) * * *

(2) The 28.1-28.5 MHz segment when the control operator is a Novice Class operator or a Technician Class operator who has received credit for proficiency in telegraphy in accordance with the international requirements; or

* * * * *

(f) No station may transmit with a transmitter power exceeding 50 W PEP on the UHF 70 cm band from an area specified in footnote US7 to § 2.106 of Part 2, unless expressly authorized by the FCC after mutual agreement, on a case-by-case basis, between the District Director of the applicable field facility and the military area frequency coordinator at the applicable military base. An Earth station or telecommand station, however, may transmit on the 435-438 MHz segment with a maximum of 611 W effective radiated power (1 kW equivalent isotropically radiated power) without the authorization otherwise required. The transmitting antenna elevation angle between the lower half-power (−3 dB relative to the peak or antenna bore sight) point and the horizon must always be greater than 10ᵒ.

* * * * *

9. Section 97.407 is amended by revising paragraph (b) introductory text to read as follows:

§ 97.407 Radio Amateur Civil Emergency Service (RACES).

* * * * *

(b) The frequency bands and segments and emissions authorized to the control operator are available to stations transmitting communications in RACES on a shared basis with the amateur service. In the event of an emergency which necessitates the invoking of the President's War Emergency Powers under the provisions of Section 706 of the Communications Act of 1934, as amended, 47 U.S.C. 606, RACES stations and amateur stations participating in RACES may only transmit on the following frequency segments:

* * * * *

10. Section 97.501 is revised to read as follows:

§ 97.501 Qualifying for an amateur operator license.

Each applicant must pass an examination for a new amateur operator license grant and for each change in operator class. Each applicant for the class of operator license grant specified below must pass, or otherwise receive examination credit for, the following examination elements:

(a) Amateur Extra Class operator: Elements 1, 2, 3, and 4;

(b) General Class operator: Elements 1, 2, and 3;

(c) Technician Class operator: Element 2.

11. Section 97.503 is amended by removing paragraph (c) and revising paragraphs (a) and (b) to read as follows:

§ 97.503 Element standards.

(a) A telegraphy examination must be sufficient to prove that the examinee has the ability to send correctly by hand and to receive correctly by ear texts in the international Morse code at not less than the prescribed speed, using all the letters of the alphabet, numerals 0-9, period, comma, question mark, slant mark, and prosigns AR, BT, and SK. Element 1: 5 words per minute

(b) A written examination must be such as to prove that the examinee possesses the operational and technical qualifications required to perform properly the duties of an amateur service licensee. Each written examination must be comprised of a question set as follows:

(1) Element 2: 35 questions concerning the privileges of a Technician Class operator license. The minimum passing score is 26 questions answered correctly.

(2) Element 3: 35 questions concerning the privileges of a General Class operator license. The minimum passing score is 26 questions answered correctly.

(3) Element 4: 50 questions concerning the privileges of an Amateur Extra Class operator license. The minimum passing score is 37 questions answered correctly.

12. Section 97.505 is amended by revising paragraph (a) to read as follows:

§ 97.505 Element credit.

(a) The administering VEs must give credit as specified below to an examinee holding any of the following license grants or license documents:

(1) An unexpired (or expired but within the grace period for renewal) FCC-granted Advanced Class operator license grant: Elements 1, 2, and 3.

(2) An unexpired (or expired but within the grace period for renewal) FCC-granted General Class operator license grant: Elements 1, 2, and 3.

(3) An unexpired (or expired but within the grace period for renewal) FCC-granted Technician Plus Class operator (including a Technician Class operator license granted before February 14, 1991) license grant: Elements 1 and 2.

(4) An unexpired (or expired but within the grace period for renewal) FCC-granted Technician Class operator license grant: Element 2.

(5) An expired or unexpired FCC-granted Novice Class operator license grant: Element 1.

(6) A CSCE: Each element the CSCE indicates the examinee passed within the previous 365 days.

(7) An unexpired (or expired less than 5 years) FCC-issued commercial radiotelegraph operator license or permit: Element 1.

(8) An expired FCC-issued Technician Class operator license document granted before March 21, 1987: Element 3.

(9) An expired or unexpired FCC-issued Technician Class operator license document granted before February 14, 1991: Element 1.

* * * * *

13. Section 97.507 is amended by revising paragraph (a) to read as follows:

§ 97.507 Preparing an examination.

(a) Each telegraphy message and each written question set administered to an examinee must be prepared by a VE holding an Amateur Extra Class operator license. A telegraphy message or written question set may also be prepared for the following elements by a VE holding an operator license of the class indicated:

(1) Element 3: Advanced Class operator.

(2) Elements 1 and 2: Advanced, General, or Technician (including Technician Plus) Class operators.

* * * * *

14. Section 97.509 amended by revising paragraphs (a) and (b)(3) to read as follows:

§ 97.509 Administering VE requirements.

(a) Each examination for an amateur operator license must be administered by a team of at least 3 VEs at an examination session coordinated by a VEC. Before the session, the administering VEs or the VE session manager must ensure that a public announcement is made giving the location and time of the session. The number of examinees at the session may be limited.

(b) * * *

(3) Be a person who holds an amateur operator license of the class specified below:

(i) Amateur Extra, Advanced or General Class in order to administer a Technician Class operator license examination;

(ii) Amateur Extra or Advanced Class in order to administer a General Class operator license examination;

(iii) Amateur Extra Class in order to administer an Amateur Extra Class operator license examination.

* * * * *

[FR Doc. 00-2983 Filed 2-9-00; 8:45 am]

BILLING CODE 6712-01-P